DEPARTMENT OF THE INTERIOR

National Park Service

[NPS-PWR-PWRO-14640; PX.DYOSE1318.00.1]

Notice of Availability of Record of Decision for Restoration of Mariposa Grove of Giant Sequois, Yosemite National Park, California

AGENCY: National Park Service, Interior.

ACTION: Notice of Availability of Record of Decision.

SUMMARY: Pursuant to § 102(2)(C) of the National Environmental Policy Act of 1969 (Pub. L. 91-190, as amended) and the regulations promulgated by the Council on Environmental Quality (40 CFR part 1505.2), the Department of the Interior, National Park Service (NPS), has prepared and approved a Record of Decision for the Final Environmental Impact Statement (Final EIS) for the Restoration Plan for Mariposa Grove of Giant Sequoias. The requisite no-action “wait period” was initiated on November 1, 2013, with the Environmental Protection Agency's Federal Register notice of the filing of the Final EIS.

Decision: The NPS has selected Alternative 2 (identified as “preferred” in the Final EIS) for implementation as the approved Restoration Plan for Mariposa Grove. Key components of the approved plan are as follows: (1) The existing parking lot in the lower Mariposa Grove area will be relocated to a visitor contact area at the South Entrance to the park, about two miles from the Grove; (2) parking will be consolidated into a 295-space parking and transit hub, with a park shuttle available to transport visitors from the South Entrance to the lower Grove area; (3) a hiking trail to the Grove and new accessible trails within the lower Grove area and near the Grizzly Giant tree will be constructed; (4) adverse effects to cultural resources will be ameliorated according to a Memorandum of Agreement executed with the State Historic Preservation Officer; and (5) ecological restoration actions will be undertaken to improve hydrologic flows, water infiltration, and reduce erosion.

Three other alternatives were evaluated, the full range of foreseeable environmental consequences was assessed, and appropriate mitigation measures were identified. Alternative 2 (selected for implementation) was deemed to be the “environmentally preferred” course of action.

Interested parties desiring to review the Record of Decision may obtain a copy by contacting the Superintendent, Attn: Division of Project Management, Yosemite National Park, P.O. Box 700-W, 5083 Foresta Road, El Portal, CA 95318 or via telephone request at (209) 379-1202.

Signed: December 16, 2013.
Christine S. Lehnertz,
Regional Director, Pacific West Region.

[FR Doc. 2014-02157 Filed 1-31-14; 8:45 am]

BILLING CODE 4312-FF-P